DEPARTMENT OF TRANSPORTATION

Federal Aviation Administration

14 CFR Part 39

[Docket No. FAA-2015-8428; Directorate Identifier 2014-NM-032-AD; Amendment 39-18898; AD 2017-10-24]

RIN 2120-AA64

Airworthiness Directives; Airbus Airplanes

AGENCY: Federal Aviation Administration (FAA), Department of Transportation (DOT).

ACTION: Final rule.

SUMMARY: We are superseding Airworthiness Directive (AD) 2011-17-09 for all Airbus Model A330-200, -200 Freighter, and -300 series airplanes; and AD 2012-25-12 for all Airbus Model A330-200 and -300 series airplanes. AD 2011-17-09 required revisions to certain operator maintenance documents to include new inspections. AD 2012-25-12 required replacing certain main landing gear (MLG) bogie beams before reaching new reduced life limits. This new AD requires revising the maintenance or inspection program, as applicable, to incorporate new, more restrictive, or revised instructions and/or airworthiness limitation requirements. This AD was prompted by revisions to certain airworthiness limitation item (ALI) documents, which specify more restrictive instructions and/or airworthiness limitations. We are issuing this AD to address the unsafe condition on these products.

DATES: This AD is effective June 29, 2017.

The Director of the Federal Register approved the incorporation by reference of certain publications listed in this AD as of June 29, 2017.

The Director of the Federal Register approved the incorporation by reference of a certain other publication listed in this AD as of January 30, 2013 (77 FR 75825, December 26, 2012).

The Director of the Federal Register approved the incorporation by reference of a certain other publication listed in this AD as of September 30, 2011 (76 FR 53305, August 26, 2011).

ADDRESSES: For Airbus service information identified in this final rule, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

For Messier-Bugatti-Dowty service information identified in this final rule, contact Messier-Bugatti USA, One Carbon Way, Walton, KY 41094; telephone 859-525-8583; fax 859-485 8827; email americascsc@safranmbd.com.

You may view this referenced service information at the FAA, Transport Airplane Directorate, 1601 Lind Avenue SW., Renton, WA. For information on the availability of this material at the FAA, call 425-227-1221. It is also available on the Internet at http://www.regulations.gov by searching for and locating Docket No. FAA-2015-8428.

Examining the AD Docket

You may examine the AD docket on the Internet at http://www.regulations.gov by searching for and locating Docket No. FAA-2015-8428; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a supplemental notice of proposed rulemaking (SNPRM) to amend 14 CFR part 39 to supersede AD 2011-17-09, Amendment 39-16773 (76 FR 53305, August 26, 2011) (“AD 2011-17-09”); and AD 2012-25-12, Amendment 39-17293 (77 FR 75825, December 26, 2012) (“AD 2012-25-12”). AD 2011-17-09 applied to all Airbus Model A330-200, -200 Freighter, and -300 series airplanes. AD 2012-25-12 applied to all Airbus Model A330-200 and -300 series airplanes. The SNPRM published in the Federal Register on December 16, 2016 (81 FR 91062). We preceded the SNPRM with a notice of proposed rulemaking (NPRM) that published in the Federal Register on January 13, 2016 (81 FR 1570). The NPRM was prompted by a determination that more restrictive instructions and/or airworthiness limitations should be incorporated into the maintenance or inspection program, as applicable. The NPRM proposed to require revising the maintenance or inspection program, as applicable, to incorporate new or revised airworthiness limitation requirements. The SNPRM proposed to require revising the maintenance or inspection program, as applicable, to incorporate more restrictive instructions and/or airworthiness limitations that the manufacturer has recently issued. We are issuing this AD to detect and correct fatigue cracking, accidental damage, or corrosion in principal structural elements, and possible failure of certain life limited parts, which could result in reduced structural integrity of the airplane.

The European Aviation Safety Agency (EASA), which is the Technical Agent for the Member States of the European Union, has issued EASA Airworthiness Directive, 2014-0009, dated January 8, 2014 (referred to after this as the Mandatory Continuing Airworthiness Information, or “the MCAI”), to correct an unsafe condition for all Airbus Model A330-200, -200 Freighter, and -300 series airplanes; and Model A340-200, -300, -500, and -600 series airplanes. The MCAI states:

The airworthiness limitations for Airbus aeroplanes are currently published in Airworthiness Limitations Section (ALS) documents.

The instructions and airworthiness limitations applicable to the Safe Life Airworthiness Limitation Items (SL ALI) are given in Airbus A330 ALS Part 1 and A340 ALS Part 1, which are approved by EASA.

The revision 07 of Airbus A330 and A340 ALS Part 1 introduces more restrictive instructions and/or airworthiness limitations. Failure to comply with this revision could result in an unsafe condition.

For the reason described above, this [EASA] AD retains the requirements of EASA AD 2012-0179, which is superseded, and requires accomplishment of the actions specified in Airbus A330 or A340 ALS Part 1 revision 07.

In addition, this [EASA] AD also supersedes EASA AD 2011-0122-E and EASA AD 2011-0212, whose requirements have been transferred into Airbus A330 and A340 ALS Part 1 revision 07.

The unsafe condition is fatigue cracking, accidental damage, or corrosion in certain principal structural elements, and possible failure of certain life limited parts, which could result in reduced structural integrity of the airplane. You may examine the MCAI in the AD docket on the Internet at http://www.regulations.gov by searching for and locating Docket No. FAA-2015-8428.

Comments

We gave the public the opportunity to participate in developing this AD. We received no comments on the SNPRM or on the determination of the cost to the public.

Conclusion

We reviewed the available data and determined that air safety and the public interest require adopting this AD as proposed except for minor editorial changes. We have determined that these minor changes:

• Are consistent with the intent that was proposed in the SNPRM for correcting the unsafe condition; and

• Do not add any additional burden upon the public than was already proposed in the SNPRM.

Related Service Information Under 1 CFR Part 51

Airbus has issued Airbus A330 ALS Part 1, SL-ALI, Revision 08, dated April 11, 2016. Messier-Bugatti-Dowty has issued Service Letter A33-34 A20, Revision 7, including Appendixes A through F, dated July 20, 2012. This service information describes SL-ALI for the landing gear. This service information is distinct since it was issued by two different manufacturers for different purposes.

This service information is reasonably available because the interested parties have access to it through their normal course of business or by the means identified in the ADDRESSES section.

Costs of Compliance

We estimate that this AD affects 82 airplanes of U.S. registry.

The actions that are required by AD 2011-17-09, and retained in this AD, take about 1 work-hour per product, at an average labor rate of $85 per work-hour. Based on these figures, the estimated cost of the actions that are required by AD 2011-17-09 is $85 per product.

The actions that are required by AD 2012-25-12, and retained in this AD, take about 16 work-hours, at an average labor rate of $85 per work-hour, with required parts cost of about $255,000 per MLG bogie beam. Based on these figures, the estimated cost of the actions that are required by AD 2012-25-12 is up to $256,360 per MLG bogie beam.

We also estimate that it would take about 1 work-hour per product to comply with the basic requirements of this AD. The average labor rate is $85 per work-hour. Based on these figures, we estimate the cost of this AD on U.S. operators to be $6,970, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government. For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2.The FAA amends § 39.13 by removing Airworthiness Directive (AD) 2011-17-09, Amendment 39-16773 (76 FR 53305, August 26, 2011); and AD 2012-25-12, Amendment 39-17293 (77 FR 75825, December 26, 2012); and adding the following new AD:

2017-10-24 Airbus: Amendment 39-18898; Docket No. FAA-2015-8428; Directorate Identifier 2014-NM-032-AD.

(a) Effective Date

This AD is effective June 29, 2017.

(b) Affected ADs

This AD replaces AD 2011-17-09, Amendment 39-16773 (76 FR 53305, August 26, 2011) (“AD 2011-17-09”); and AD 2012-25-12, Amendment 39-17293 (77 FR 75825, December 26, 2012) (“AD 2012-25-12”).

(c) Applicability

This AD applies to the Airbus airplanes identified in paragraphs (c)(1), (c)(2), and (c)(3) of this AD, certificated in any category, with an original certificate of airworthiness or original export certificate of airworthiness issued on or before April 11, 2016.

(1) Airbus Model A330-201, -202, -203, -223, and -243 airplanes.

(2) Airbus Model A330-223F and -243F airplanes.

(3) Airbus Model A330-301, -302, -303, -321, -322, -323, -341, -342, and -343 airplanes.

(d) Subject

Air Transport Association (ATA) of America Code 05, Periodic inspections.

(e) Reason

This AD was prompted by revisions to certain airworthiness limitation item documents, which specify more restrictive instructions and/or airworthiness limitations. We are issuing this AD to detect and correct fatigue cracking, accidental damage, or corrosion in principal structural elements, and possible failure of certain life limited parts, which could result in reduced structural integrity of the airplane.

(f) Compliance

Comply with this AD within the compliance times specified, unless already done.

(g) Retained Maintenance Program Revision, With New Terminating Action

This paragraph restates the requirements of paragraph (h) of AD 2011-17-09, with new terminating action. Within 3 months after September 30, 2011 (the effective date of AD 2011-17-09): Revise the maintenance program by incorporating Airbus A330 Airworthiness Limitations Section (ALS) Part 1, Safe Life Airworthiness Limitation Items (SL-ALI), Revision 05, dated July 29, 2010. Comply with all ALIs in Airbus A330 ALS Part 1, SL-ALI, Revision 05, dated July 29, 2010, at the times specified therein. Accomplishing the actions specified in paragraph (k) of this AD terminates the requirements of this paragraph.

(h) Retained Limitation of No Alternative Intervals or Limits, With Additional Exception

This paragraph restates the requirements of paragraph (i) of AD 2011-17-09, with additional exception. Except as provided by paragraphs (k) and (m)(1) of this AD, after accomplishment of the actions specified in paragraph (g) of this AD, no alternatives to the maintenance tasks, intervals, or limitations specified in paragraph (g) of this AD may be used.

(i) Retained Bogie Beam Replacement, With Specific Delegation Approval Language, New Terminating Action, and New Service Information

This paragraph restates the requirements of paragraph (g) of AD 2012-25-12, with specific delegation approval language and terminating action and new service information. For airplanes identified in paragraphs (c)(1) and (c)(3) of this AD: At the later of the times specified in paragraphs (i)(1) and (i)(2) of this AD, replace all main landing gear (MLG) bogie beams having part number (P/N) 201485300, 201485301, 201272302, 201272304, 201272306, or 201272307, except those that have serial number (S/N) S2A, S2B, or S2C, as identified in Messier-Dowty Service Letter A33-34 A20, Revision 5, including Appendixes A through F, dated July 31, 2009; or Messier-Bugatti-Dowty Service Letter A33-34 A20, Revision 7, including Appendixes A through F, dated July 20, 2012; with a new or serviceable part, using a method approved by the Manager, International Branch, ANM-116, Transport Airplane Directorate, FAA; or the European Aviation Safety Agency (EASA); or Airbus's EASA Design Organization Approval (DOA). As of the effective date of this AD, the applicable MLG bogie beams specified in this paragraph must be replaced using a method approved by the Manager, International Branch, ANM-116, Transport Airplane Directorate, FAA; or EASA; or Airbus's EASA DOA. Accomplishing the actions specified in paragraph (k) of this AD terminates the requirements of this paragraph.

(1) At the applicable time specified in paragraphs (i)(1)(i), (i)(1)(ii), and (i)(1)(iii) of this AD.

(i) For Model A330-201, -202, -203, -223, -243 series airplanes, weight variant (WV)02x, WV05x (except WV058), and WV06x series: Before the accumulation of a life limit of 50,000 landings or 72,300 total flight hours, whichever occurs first from the first installation of a MLG bogie beam on the airplane.

(ii) For Model A330-201, -202, -203, -223, -243 WV058 series airplanes: Before the accumulation of a life limit of 50,000 landings or 57,900 total flight hours, whichever occurs first from the first installation of a MLG bogie beam on the airplane.

(iii) For Model A330-301, -302, -303, -321, -322, -323, -341, -342, -343 series airplanes, WV00x, WV01x, WV02x, and WV05x series: Before the accumulation of a life limit of 46,000 landings or 75,000 total flight hours, whichever occurs first from the first installation of a MLG bogie beam on the airplane.

(2) Within 6 months after January 30, 2013 (the effective date of AD 2012-25-12).

(j) Retained Parts Installation Limitation, With New Terminating Action

This paragraph restates the requirements of paragraph (h) of AD 2012-25-12, with new terminating action. For airplanes identified in paragraphs (c)(1) and (c)(3) of this AD, as of January 30, 2013 (the effective date of AD 2012-25-12), a MLG bogie beam having any part number identified in paragraph (i) of this AD may be installed on an airplane, provided its life has not exceeded the life limit specified in paragraphs (i)(1)(i), (i)(1)(ii), and (i)(1)(iii) of this AD, and it is replaced with a new or serviceable part before reaching the life limit specified in paragraphs (i)(1)(i), (i)(1)(ii), and (i)(1)(iii) of this AD. Accomplishing the actions specified in paragraph (k) of this AD terminates the requirements of this paragraph.

(k) New Maintenance or Inspection Program Revision

Within 3 months after the effective date of this AD: Revise the maintenance or inspection program, as applicable, by incorporating the information in Airbus A330 ALS Part 1, SL-ALI, Revision 08, dated April 11, 2016. The initial compliance times for the actions specified in Airbus A330 ALS Part 1, SL-ALI, Revision 08, dated April 11, 2016, are at the times specified in Airbus A330 ALS Part 1, SL-ALI, Revision 08, dated April 11, 2016, or within 3 months after the effective date of this AD, whichever occurs later. Accomplishing the actions specified in this paragraph terminates the requirements specified in paragraphs (g) through (j) of this AD.

(l) New Limitation of No Alternative Actions or Intervals

After the maintenance or inspection program, as applicable, has been revised, as required by paragraph (k) of this AD, no alternative actions (e.g., inspections) or intervals may be used unless the actions or intervals are approved as an alternative method of compliance (AMOC) in accordance with the procedures specified in paragraph (m)(1) of this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the manager of the International Branch, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Branch, ANM-116, Transport Airplane Directorate, FAA; or EASA; or Airbus's EASA DOA. If approved by the DOA, the approval must include the DOA-authorized signature.

(n) Related Information

(1) Refer to Mandatory Continuing Airworthiness Information (MCAI) EASA Airworthiness Directive 2014-0009, dated January 8, 2014, for related information. This MCAI may be found in the AD docket on the Internet at http://www.regulations.gov by searching for and locating Docket No. FAA-2015-8428.

(2) For more information about this AD, contact Vladimir Ulyanov, Aerospace Engineer, International Branch, ANM-116, Transport Airplane Directorate, FAA, 1601 Lind Avenue SW., Renton, WA 98057-3356; telephone 425-227-1138; fax 425-227-1149.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on June 29, 2017.

(i) Airbus A330 Airworthiness Limitations Section Part 1, Safe Life Airworthiness Limitation Items, Revision 08, dated April 11, 2016.

(ii) Messier-Bugatti-Dowty Service Letter A33-34 A20, Revision 7, including Appendixes A through F, dated July 20, 2012.

(4) The following service information was approved for IBR on January 30, 2013 (77 FR 75825, December 26, 2012).

(i) Messier-Dowty Service Letter A33-34 A20, Revision 5, including Appendixes A through F, dated July 31, 2009.

(ii) Reserved.

(5) The following service information was approved for IBR on September 30, 2011 (76 FR 53305, August 26, 2011).

(i) Airbus A330 Airworthiness Limitations Section, Part 1, Safe Life Airworthiness Limitation Items, Revision 05, dated July 29, 2010. The revision level of this document is indicated only on the title page and in the Record of Revisions; the revision date of this document is not indicated on the title page of this document.

(ii) Reserved.

(6) For Airbus service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(7) For Messier-Bugatti-Dowty service information identified in this AD, contact Messier-Bugatti USA, One Carbon Way, Walton, KY 41094; telephone 859-525-8583; fax 859-485 8827; email americascsc@safranmbd.com.

(8) You may view this service information at the FAA, Transport Airplane Directorate, 1601 Lind Avenue SW., Renton, WA. For information on the availability of this material at the FAA, call 425-227-1221.

(9) You may view this service information that is incorporated by reference at the National Archives and Records Administration (NARA). For information on the availability of this material at NARA, call 202-741-6030, or go to: http://www.archives.gov/federal-register/cfr/ibr-locations.html.

Issued in Renton, Washington, on May 10, 2017.
Michael Kaszycki,
Acting Manager, Transport Airplane Directorate, Aircraft Certification Service.

[FR Doc. 2017-10266 Filed 5-24-17; 8:45 am]

BILLING CODE 4910-13-P